SOCIAL SECURITY ADMINISTRATION

[Docket No. SSA-2017-0033]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov

(SSA), Social Security Administration, OLCA, Attn: Reports Clearance Director, 3100 West High Rise, 6401 Security Blvd., Baltimore, MD 21235. Fax: 410-966-2830. Email address: OR.Reports.Clearance@ssa.gov.

Or you may submit your comments online through www.regulations.gov, referencing Docket ID Number [SSA-2017-0033].

I. The information collections below are pending at SSA. SSA will submit them to OMB within 60 days from the date of this notice. To be sure we consider your comments, we must receive them no later than August 28, 2017. Individuals can obtain copies of the collection instruments by writing to the above email address.

1. Public Information Campaign—0960-0544. Periodically, SSA sends various public information materials, including public service announcements; news releases; and educational tapes, to public broadcasting systems so they can inform the public about various programs and activities SSA conducts. SSA frequently sends follow-up business reply cards for these public information materials to obtain suggestions for improving them. The respondents are broadcast sources.

Type of Request: Revision of an OMB-approved information collection.

Modality of completion | Number of respondents | Frequency of response | Average burden per response (minutes) | Estimated total annual burden (hours)
Radio Survey | 5,000 | 2 | 1 | 167

2. Medical Permit Parking Application—41 CFR 102-71.20 and 102-74.305—0960-0624. SSA employees and contractors with a qualifying medical condition who park at SSA-owned and leased facilities may apply to receive a medical parking permit. SSA uses three forms for this program: (1) SSA-3192, the Application and Statement which an individual completes when first applying for the medical parking space; (2) SSA-3193, the Physician's Report, which the applicant's physician completes to verify the medical condition; and (3) SSA-3194, Renewal Certification, which medical parking permit holders complete to verify their continued need for the permit. The respondents are SSA employees and contractors seeking medical parking permits and their physicians.

Note: Because SSA employees are Federal workers exempt from the requirements of the Paperwork Reduction Act, the burden below is only for SSA contractors and physicians (of both SSA employees and contractors).

Type of Request: Revision of an OMB-approved information collection.

Modality of completion | Number of respondents | Frequency of response | Average burden per response (minutes) | Estimated total annual burden (hours)
SSA-3192 | 390 | 1 | 30 | 195
SSA-3193 | 465 | 1 | 90 | 698
SSA-3194 | 82 | 1 | 5 | 7
Totals | 937 |  |  | 900

3. Electronic Records Express (Third Parties)—20 CFR 404.1700-404.1715—0960-0767. Electronic Records Express (ERE) is an online system which enables medical providers and various third party representatives to download and submit disability claimant information electronically to SSA as part of the disability application process. To ensure only authorized people access ERE, SSA requires third parties to complete a unique registration process if they wish to use this system. This information collection request (ICR) includes the third-party registration process; the burden for submitting evidence to SSA is part of other, various ICRs. The respondents are third party representatives of disability applicants or recipients who want to use ERE to electronically access clients' disability files online and submit information to SSA.

Type of Request: Revision of an OMB-approved information collection.

Modality of completion | Number of respondents | Frequency of response | Average burden per response (minutes) | Estimated total annual burden (hours)
ERE—Third Parties | 10,413 | 319 | 1 | 55,362

4. Screen Pop—20 CFR 401.45—0960-0790. Section 205(a) of the Social Security Act (Act) requires SSA to verify the identity of individuals who request a record or information pertaining to themselves, and to establish procedures for disclosing personal information. SSA established Screen Pop, an automated telephone process, to speed up verification for such individuals. Accessing Screen Pop, callers enter their Social Security number (SSN) using their telephone keypad or speech technology prior to speaking with a National 800 Number Network (N8NN) agent. The automated Screen Pop application collects the SSN and routes it to the “Start New Call” Customer Help and Information (CHIP) screen. Functionality for the Screen Pop application ends once the SSN connects to the CHIP screen and the SSN routes to the agent's screen. When the call connects to the N8NN agent, the agent can use the SSN to access the caller's record as needed. The respondents for this collection are individuals who contact SSA's N8NN to speak with an agent.

Type of Request: Revision of an OMB-approved information collection.

Modality of completion | Number of respondents | Frequency of response | Average burden per response (minutes) | Estimated total annual burden (hours)
Screen Pop | 53,394,811 | 1 | 1 | 889,914

5. Incoming and Outgoing Intergovernmental Personnel Act Assignment Agreement—5 CFR 334—0960-0792. The Intergovernmental Personnel Act (IPA) mobility program provides for the temporary assignment of civilian personnel between the Federal Government and State and local governments; colleges and universities; Indian tribal governments; Federally-funded research and development centers; and other eligible organizations. The Office of Personnel Management (OPM) created a generic form, the OF-69, for agencies to use as a template when collecting information for the IPA assignment. The OF-69 collects specific information about the agreement including: (1) The enrolled employee's name, Social Security number, job title, salary, classification, and address; (2) the type of assignment; (3) the reimbursement arrangement; and (4) an explanation as to how the assignment benefits both SSA and the non-federal organization involved in the exchange. OPM directs agencies to use their own forms for recording these agreements. Accordingly, SSA modified the OF-69 to meet our needs, creating the SSA-187 for incoming employees and the SSA-188 for outgoing employees. SSA collects information on the SSA-187 and SSA-188 to document the IPA assignment and to act as an agreement between the agencies. Respondents are personnel from State and local governments; colleges and universities; Indian tribal governments; Federally-funded research and development centers; and other eligible organizations who participate in the IPA exchange with SSA.

Type of Request: Revision of an OMB-approved information collection.

Modality of completion | Number of respondents | Frequency of response | Average burden per response (minutes) | Estimated total annual burden (hours)
Non-Federal employee | 10 | 1 | 30 | 5
Non-Federal employer signers | 20 | 1 | 5 | 2 | Totals | 30 |  |  | 7

II. SSA submitted the information collections below to OMB for clearance. Your comments regarding these information collections would be most useful if OMB and SSA receive them 30 days from the date of this publication. To be sure we consider your comments, we must receive them no later than July 27, 2017. Individuals can obtain copies of the OMB clearance packages by writing to OR.Reports.Clearance@ssa.gov.

1. Disability Report-Appeal—20 CFR 404.1512, 416.912, 404.916(c), 416.1416(c), 422.140, 404.1713, 416.1513, 404.1740(b)(4), 416.1540(b)(4), and 405 Subpart C—0960-0144. SSA requires disability applicants who wish to appeal an unfavorable disability determination to complete Form SSA-3441-BK; the associated Electronic Disability Collect System (EDCS) interview; or the Internet application, i3441. This allows claimants to disclose any changes to their disability, or resources, which might influence SSA's unfavorable determination. We may use the information to: (1) Reconsider and review an initial disability determination; (2) review a continuing disability; and (3) evaluate a request for a hearing. This information assists the State Disability Determination Services (DDS) and administrative law judges (ALJ) in preparing for the appeals and hearings, and in issuing a determination or decision on an individual's entitlement (initial or continuing) to disability benefits. In addition, the information we collect on the SSA-3441-BK, or related modalities, facilitates SSA's collection of medical information to support the applicant's request for reconsideration; request for benefits cessation appeal; and request for a hearing before an ALJ. Respondents are individuals who appeal denial, reduction, or cessation of Social Security disability benefits and Supplemental Security Income (SSI) payments; individuals who wish to request a hearing before an ALJ; or their representatives.

Type of Request: Revision of an OMB-approved information collection.

Modality of completion | Number of respondents | Frequency of response | Average burden per response (minutes) | Estimated total annual burden (hours)
SSA-3441-BK | 2,396 | 1 | 45 | 1,797
Electronic Disability Collect System (EDCS) | 476,771 | 1 | 45 | 357,578
i3441 (Internet) | 1,046,938 | 1 | 28 | 488,571
Totals | 1,526,105 |  |  | 847,946

2. Disability Case Development Information Collections By State Disability Determination Services On Behalf of SSA—20 CFR, subpart P, 404.1503a, 404.1512, 404.1513, 404.1514, 404.1517, 404.1519; 20 CFR subpart Q, 404.1613, 404.1614, 404.1624; 20 CFR subpart I, 416.903a, 416.912, 416.913, 416.914, 416.917, 416.919 and 20 CFR subpart J, 416.1013, 416.1014, 416.1024—0960-0555. DDSs collect the information necessary to administer the Social Security Disability Insurance and SSI programs. They collect medical evidence from consultative examination (CE) sources; credential information from CE source applicants; and medical evidence of record (MER) from claimants' medical sources. The DDSs collect information from claimants regarding medical appointments, pain, symptoms, and impairments. The respondents are medical providers, other sources of MER, and disability claimants.

Type of Request: Revision of an OMB-approved information collection.

CE Collections

There are three CE information collections: (a) Medical evidence about claimants' medical condition(s) that DDS's use to make disability determinations when the claimant's own medical sources cannot or will not provide the required information, and proof of credentials from CE providers; (b) CE appointment letters; and (c) CE claimant reports sent to claimants' doctors.

(A) Medical Evidence and Credentials From CE Providers
Modality of completion | Number of respondents | Frequency of response | Average burden per response (minutes) | Estimated total annual burden (hours)
CE Paper Submissions | 1,400,000 | 1 | 30 | 700,000
CE Electronic Submissions | 296,000 | 1 | 10 | 49,333
CE Credentials | 4,000 | 1 | 15 | 1,000
Totals | 1,700,000 |  |  | 750,333

(B) CE Appointment Letters and (C) CE Claimants' Report to Medical Providers
Modality of completion | Number of respondents | Frequency of response | Average burden per response (minutes) | Estimated total annual burden (hours)
(b) CE Appointment Letters | 880,000 | 1 | 5 | 73,333
(c) CE Claimants' Report to Medical Providers | 450,000 | 1 | 5 | 37,500
Totals | 1,330,000 |  |  | 110,833

MER Collections

The DDS's collect MER information from the claimant's medical sources to determine a claimant's physical or mental status prior to making a disability determination.

Modality of completion | Number of respondents | Frequency of response | Average burden per response (minutes) | Estimated total annual burden (hours)
Paper Submissions | 3,150,000 | 1 | 20 | 1,050,000
Electronic Submissions | 9,450,000 | 1 | 12 | 1,890,000
Totals | 12,600,000 |  |  | 2,940,000

Pain/Other Symptoms/Impairment Information From Claimants

The DDS's use information about pain/symptoms to determine how pain/symptoms affect the claimant's ability to do work-related activities prior to making a disability determination.

Modality of completion | Number of respondents | Frequency of response | Average burden per response (minutes) | Estimated total annual burden (hours)
Pain/Other Symptoms/Impairment Information | 2,100,000 | 1 | 20 | 700,000

The total estimated annual burden for all categories described in this information collection is 4,501,166 hours.

3. Authorization to Disclose Information to SSA—20 CFR 404.1512 and 416.912, 45 CFR 160 and 164—0960-0623. Sections 223(d)(5)(A) and 1614(a)(3)(H)(i) of the Act require claimants to provide medical and other evidence the Commissioner of Social Security may require to prove they are disabled. SSA must obtain sufficient evidence to make eligibility determinations for Title II and Title XVI payments. Therefore, the applicant must authorize release of information from various sources to SSA. The applicants use Form SSA-827, or the Internet counterpart, i827, to provide consent for the release of medical records, education records, and other information related to their ability to perform tasks. Once the applicant completes Form SSA-827, or the i827, SSA or the State DDS sends the form to the designated source(s) to obtain pertinent records. The respondents are applicants for Title II and Title XVI disability payments.

Type of Request: Revision of an OMB-approved information collection.

Modality of completion | Number of respondents | Frequency of response | Average burden per response (minutes) | Estimated total annual burden (hours)
i827 with electronic signature (eAuthorization) | 4,189,270 | 1 | 9 | 628,391
SSA-827 with wet signature (paper version) | 1,055,807 | 1 | 10 | 175,968
Totals | 5,245,077 |  |  | 804,359

Dated: June 21, 2017.
Naomi R. Sipple,
Reports Clearance Officer, Social Security Administration.

[FR Doc. 2017-13331 Filed 6-26-17; 8:45 am]

BILLING CODE 4191-02-P